ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC on Tuesday and Wednesday, January 13-14, 2004, at the times and location noted below.

DATES: The schedule of events is as follows:

Tuesday, January 13, 2004

10:30-Noon Ad Hoc Committee on Public Outreach.

1:30-3 p.m. Technical Programs Committee.

3-4 p.m. Planning and Budget Committee.

4-5 p.m. Passenger Vessels Ad Hoc Committee (closed session).

Wednesday, January 14, 2004

9-10:30 a.m. Passenger Vessels Ad Hoc Committee (closed session).

10:30-Noon Public Rights-of-Way Ad Hoc Committee (closed session).

1:30-3:30 p.m. Board meeting.

ADDRESSES: The meetings will be held at the Marriott at Metro Center Hotel, 775 12th Street, NW., Washington, DC.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

Open Meeting

• Approval of the November 19, 2003, Board Meeting minutes;

• Report of the Ad Hoc Committee on Public Outreach;

• Technical Programs Committee Report;

• Planning and Budget Committee Report.

Closed Meeting

• Passenger Vessels Accessibility Guidelines;

• Public Rights-of-Way Accessibility Guidelines;

• ADA and ABA Accessibility Guidelines Final Rule (Voting).

All meetings are accessible to persons with disabilities. Sign language interpreters and an assistive listening system are available at all meetings. Persons attending Board meetings are requested to refrain from using perfume, cologne, and other fragrances for the comfort of other participants.

James J. Raggio,
General Counsel.

[FR Doc. 03-32218 Filed 12-30-03; 8:45 am]

BILLING CODE 8150-01-P